DEPARTMENT OF TRANSPORTATION

Federal Aviation Administration

Notice of Release From Federal Grant Assurance Obligations for Livermore Municipal Airport, Livermore, CA

AGENCY: Federal Aviation Administration, DOT.

ACTION: Notice of request to release airport land.

SUMMARY: The Federal Aviation Administration (FAA) proposes to rule and invites public comment on the application for a release of approximately 4.5 acres of airport property at the Livermore Municipal Airport, Livermore, California. The City of Livermore proposes to release 4.5 acres of airport land in order to acquire a parcel of equal size that is currently privately-owned. This exchange is necessary in order to commence development of flood control improvements designed to remove the airport's property from the 100-year floodplain.

DATES: Comments must be received on or before October 11, 2011.

FOR FURTHER INFORMATION CONTACT: Comments on the request may be mailed or delivered to the FAA at the following address: Robert Y. Lee, Airports Compliance Specialist, Federal Aviation Administration, Airports Division, Federal Register Comment, 831 Mitten Road, Room 210, Burlingame, CA 94010. In addition, one copy of the comment submitted to the FAA must be mailed or delivered to Ms. Linda Barton, City Manager, City of Livermore, 1052 South Livermore Avenue, Livermore, CA 94550.

SUPPLEMENTARY INFORMATION: In accordance with the Wendell H. Ford Aviation Investment and Reform Act for the 21st Century (AIR 21), Public Law 10-181 (Apr. 5, 2000; 114 Stat. 61), this notice must be published in the Federal Register 30 days before the Secretary may waive any condition imposed on a Federally obligated airport by surplus property conveyance deeds or grant agreements.

The following is a brief overview of the request:

The City of Livermore, California requested a release from grant assurance obligations for 4.5 acres of airport land north of the Arroyo Las Positas so that it can be exchanged for a portion of a privately-owned land adjacent to El Charro Road and north of the Arroyo Las Positas. Both parcels of land are currently vacant and used for dry farming. The privately owned parcel to be acquired is located about 5,400-linear feet west of the airport's Runway 7L/25R centerline. The airport parcel to be released will be utilized for planned commercial development. The acquired parcel will be redeveloped with a hydromodification basin for flood control and to reduce water ponding on airport and adjacent land.

The airport parcel was acquired with Airport Improvement Program funds to protect the airport's approach surfaces and currently serves this purpose. After release, the airport parcel will be redeveloped for commercial purposes, which will be compatible with the airport. The property to be acquired lies within airport's approach surfaces and will provide approach protection to the airport.

The selling price is based on the appraised fair market value of both parcels. The value of the airport's parcel exceeds the value of the privately-owned parcel. So the airport will also receive a cash payment of $1,260,000.

The land exchange will provide benefits to the airport and serve the interest of civil aviation. The airport will be fully compensated, protected by 100-year floodplain enhancements, and provided continued protection of its approach surfaces. The reuse of the released parcel for commercial purposes represents a compatible land use that will not interfere with the airport or its operation.

Issued in Burlingame, California, on August 31, 2011.
Arlene B. Draper,
Acting Manager, San Francisco Airports District Office, Western-Pacific Region.

[FR Doc. 2011-23190 Filed 9-9-11; 8:45 am]

BILLING CODE 4910-13-P